DEPARTMENT OF TRANSPORTATION

Federal Aviation Administration

Office of Commercial Space Transportation; Notice of Availability of a Record of Decision (ROD) To Issue a Reentry License to Lockheed Martin Corporation for the Reentry of the Orion Multi-Purpose Crew Vehicle (MPCV) From Earth Orbit to a Location in the Pacific Ocean

AGENCY: Federal Aviation Administration (FAA), DOT.

ACTION: Notice of availability of the ROD.

SUMMARY: In accordance with the National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of the ROD to issue a reentry license to Lockheed Martin Corporation for the reentry of the Orion MPCV from Earth orbit to a location in the Pacific Ocean.

FOR FURTHER INFORMATION CONTACT: Mr. Daniel Czelusniak, Environmental Specialist, Office of Commercial Space Transportation, Federal Aviation Administration, 800 Independence Avenue SW., Room 325, Washington, DC 20591; email Daniel.Czelusniak@faa.gov; or phone (202) 267-5924.

SUPPLEMENTARY INFORMATION: The potential environmental consequences of the Orion MPCV reentering the Earth's atmosphere and landing in the Pacific Ocean were analyzed in the 2008 Final Constellation Programmatic Environmental Impact Statement (2008 PEIS) prepared by the National Aeronautics and Space Administration. Because the FAA was not a cooperating agency on the 2008 PEIS, the FAA adopted in part the 2008 PEIS and recirculated it as a Final EIS in accordance with 40 CFR 1506.3(b). A public notice of FAA's adoption and recirculation of the 2008 PEIS was published in the Federal Register on November 30, 2012.

The ROD provides a description of the Proposed Action and the No Action Alternative. It includes a discussion of the potential environmental impacts associated with the Proposed Action for each applicable resource area, as analyzed in the 2008 PEIS. The 2008 PEIS serves as the primary reference and basis for preparation of the ROD. The 2008 PEIS documents the analysis of the potential environmental consequences associated with the above referenced Proposed Action and a No Action Alternative, and is made part of the ROD. The FAA adopted the 2008 PEIS in part pursuant to the requirements of NEPA, CEQ Regulations, and FAA Order 1050.1E, Change 1. Furthermore, the ROD represents the FAA's final environmental determination and approval to support the issuance reentry license to Lockheed Martin Corporation for the reentry of the Orion MPCV from Earth orbit to a location in the Pacific Ocean.

The FAA has posted the ROD on the FAA Web site at http://www.faa.gov/about/office_org/headquarters_offices/ast/environmental/nepa_docs/review/documents_completed/.

Issued in Washington, DC, on: May 9, 2013.
Daniel P. Murray,
Acting Manager, Space Transportation Development Division.

[FR Doc. 2013-11929 Filed 5-17-13; 8:45 am]

BILLING CODE 4910-13-P